SMALL BUSINESS ADMINISTRATION

[Declaration of Economic Injury Disaster #9G69]

State of Oregon

Lane and Lincoln Counties and the contiguous counties of Benton, Deschutes, Douglas, Klamath, Linn, Polk, and Tillamook in the State of Oregon constitute an economic injury disaster loan area as a result of flooding, landslides, debris flows, and resulting road closures beginning on November 24, 1999. Eligible small businesses and small agricultural cooperatives without credit available elsewhere may file applications for economic injury assistance as a result of this disaster until the close of business on November 13, 2000 at the address listed below or other locally announced locations: U.S. Small Business Administration, Disaster Area 4 Office, P.O. Box 13795, Sacramento, CA 95853-4795.

The interest rate for eligible small businesses and small agricultural cooperatives is 4 percent.

(Catalog of Federal Domestic Assistance Program No. 59002)
Dated: February 10, 2000.
Fred P. Hochberg,
Acting Administrator.

[FR Doc. 00-4015 Filed 2-17-00; 8:45 am]

BILLING CODE 8025-01-P